ENVIRONMENTAL PROTECTION AGENCY

[FRL-9768-6]

Notice of Public Meeting: Designation of an Ocean Dredged Material Disposal Sites (ODMDS) in Eastern Long Island Sound; Connecticut, New York, and Rhode Island

AGENCY: Environmental Protection Agency (EPA).

ACTION: Notice.

SUMMARY: EPA Region 1 announces the rescheduled public meeting to discuss the Notice of Intent to Prepare a Supplemental Environmental Impact Statement (SEIS) to Evaluate the Potential Designation of One or More Ocean Dredged Material Disposal Sites (ODMDS) to Serve the Eastern Long Island Sound Region. The public meeting was originally scheduled for November 15, 2012, but was delayed due to the recovery efforts related to Superstorm Sandy. EPA is requesting written comments from federal, state, and local governments, industry, non-governmental organizations, and the general public on the need for action, the range of alternatives considered, and the potential impacts of the alternatives.

DATES: This public meeting will be held on January 9, 2013, from 2:30 p.m. to 5:30 p.m. Registration will begin at 2:00 p.m.

ADDRESSES: The meeting will be held at the Suffolk Community College Culinary Arts Center, 20 E. Main Street, Riverhead, New York 11901. Directions are available at: http://department.sunysuffolk.edu/CulinaryArtsandHospitalityCenter_E/5009.asp.

FOR FURTHER INFORMATION CONTACT: For further information, please contact: Ms. Jean Brochi, Mailing Address: U.S. EPA, Region 1, 5 Post Office Square, Suite 100, OEP06-1, Boston, MA 02109-3912, Phone: (617) 918-1536, email: ELIS@epa.gov, TDY: (617) 918-1189.

SUPPLEMENTARY INFORMATION: Meeting Access: Seating at the meeting will be on a first-come basis. Although the meeting facility does comply with the Americans with Disabilities Act, if you are unsure that your specific needs can be accommodated, please contact the person listed under FOR FURTHER INFORMATION CONTACT at least five business days prior to the meeting.

Procedures for Providing Public Input: You may participate in this meeting by providing oral or written comments: Oral comments: To the extent that time permits, interested persons of the public may be permitted to present oral comments at the meeting. A sign-in sheet will be available at the registration desk for each individual or group wishing to make brief oral comments. Written comments: Written comments may be provided at the public meeting at the registration desk. Written comments may also be provided by email to ELIS@epa.gov or by mail using the information under FOR FURTHER INFORMATION CONTACT. Please note that the comment period for the Notice of Intent will end on January 31, 2013.

Dated: December 27, 2012.
H. Curtis Spalding,
Regional Administrator, EPA—New England.

[FR Doc. 2013-00055 Filed 1-4-13; 8:45 am]

BILLING CODE 6560-50-P